DEPARTMENT OF THE INTERIOR

National Park Service

[NPS-WASO-CONC-36347;PPWOBSADC0, PPMVSCS1Y.Y00000]

Notice of Intent To Extend and Continue Concession Contracts and Award Temporary Concession Contracts

AGENCY: National Park Service, Interior.

ACTION: Public notice.

SUMMARY: Under the terms of the concession contracts identified in the tables below and its regulations, the National Park Service gives public notice that it intends to: extend each concession contract listed in table 1 below until the date shown in the “Extension Expiration Date” column or until the effective date of a new contract, whichever comes first; continue each concession contract listed in table 2 below until the date shown in the “Continuation Expiration Date” column or until the effective date of a new contract, whichever comes first; and award the temporary concession contracts listed in table 3 below.

DATES: The National Park Service intends that the concession contract extensions, continuations, and temporary concession contracts will be effective on the dates shown in the tables below, as applicable.

FOR FURTHER INFORMATION CONTACT: Kurt Rausch, Program Chief, Commercial Services Program, National Park Service, 1849 C Street NW, Mail Stop 2410, Washington, DC 20240; Telephone: 202-513-7156.

SUPPLEMENTARY INFORMATION: Under 36 CFR 51.23, the National Park Service proposes to extend each contract listed in table 1 until the date shown in the “Extension Expiration Date” column or until the effective date of a new contract, whichever comes first. The National Park Service has determined that the proposed extensions are necessary to avoid an interruption of visitor services and has taken all reasonable and appropriate steps to consider alternatives to avoid such an interruption. The extension of the existing contracts does not confer or affect any rights with respect to the award of new contracts.

The concession contracts listed in table 2 below have been extended for the maximum time allowable under 36 CFR 51.23. Under the provisions of the existing contracts and pending the issuance of prospectuses and the completion of the public solicitation process to award new concession contracts, the National Park Service intends to continue the existing contracts until the date shown in the “Continuation Expiration Date” column or until the effective date of a new contract, whichever comes first. The continuation of the existing contracts does not confer or affect any rights with respect to the award of new concession contracts.

The National Park Service proposes awarding temporary concession contracts, in accordance with 36 CFR 51.24(a), to provide the visitor services currently provided under the contracts listed in table 3 below. The temporary contracts will have a term not to exceed 3 years and will be awarded to a qualified person. The National Park Service anticipates that the temporary contracts will be effective on the date shown in the “Effective Date” column. This notice is not a request for proposals.

The publication of this notice reflects the intent of the National Park Service but does not bind the National Park Service to extend, continue, or award any of the contracts listed below.

Table 1—Concession Contracts Extended Until the Expiration Date Shown or Until the Effective Date of a New Contract, Whichever Comes First
Park unit | CONCID | Concessioner | Extension effective date | Extension expiration date
Blue Ridge PW | BLRI010-13 | Price Lake Boat Rentals, Inc. | 4/1/2025 | 3/31/2026
Blue Ridge PW | BLRI008-13 | Southern Highland Handicraft Guild, Inc. | 2/1/2025 | 1/31/2026
Buffalo NR | BUFF002-13 | Lost Valley Canoe and Lodging, Inc. | 1/1/2025 | 12/31/2025
Buffalo NR | BUFF004-13 | Ozark Bison LLC | 1/1/2025 | 12/31/2025
Buffalo NR | BUFF005-13 | Silver Hill Canoe, Inc. | 1/1/2025 | 12/31/2025
Buffalo NR | BUFF009-13 | Buffalo Outdoor Center, Inc. | 1/1/2025 | 12/31/2025
Buffalo NR | BUFF010-13 | Buffalo River Outfitters, Inc. | 1/1/2025 | 12/31/2025
Buffalo NR | BUFF011-13 | Charles Raulston | 1/1/2025 | 12/31/2025
Buffalo NR | BUFF014-13 | Christopher Crockett | 1/1/2025 | 12/31/2025
Buffalo NR | BUFF015-13 | Buffalo Camping & Canoeing, Inc. | 1/1/2025 | 12/31/2025
Buffalo NR | BUFF016-13 | Buffalo River Float Service, LLC | 1/1/2025 | 12/31/2025
Buffalo NR | BUFF018-13 | Buffalo River Canoes, Inc. | 1/1/2025 | 12/31/2025
Buffalo NR | BUFF019-13 | Dirst Canoe Rental, Inc. | 1/1/2025 | 12/31/2025
Buffalo NR | BUFF022-13 | Bill Scruggs, Inc. | 1/1/2025 | 12/31/2025
Canyonlands NP | CANY026-15 | Canyonlands River Tours, LLC | 1/1/2025 | 12/31/2025
Canyonlands NP | CANY027-15 | Meander Canyon Transportation, Inc. | 1/1/2025 | 12/31/2025
Cape Cod NS | CACO003-14 | Johnson Golf Management, Inc. | 5/28/2025 | 5/27/2026
Cape Lookout NS | CALO001-14 | Island Express Ferry Service, LLC | 1/1/2025 | 12/31/2025
Delaware Water Gap NRA | DEWA001-15 | Rivers Ridge Properties, LLC | 1/1/2026 | 12/31/2027
Dry Tortugas NP | DRTO002-15 | Key West Seaplane Adventures, LLC | 9/15/2025 | 9/14/2026
Everglades NP | EVER004-11 | TRF Concession Specialists of Florida, Inc. | 1/1/2025 | 12/31/2025
Gateway NRA | GATE015-03 | ARKLOW-FBF LLC | 4/15/2025 | 4/14/2026
Gateway NRA | GATE021-12 | JAYBAY, LLC | 1/1/2025 | 12/31/2026
Gateway NRA | GATE023-12 | JAYBAY, LLC | 1/1/2025 | 12/31/2026
Glacier Bay NP&P | GLBA008-18 | Haines Rafting Company, LLC | 1/1/2025 | 12/31/2025
Glacier Bay NP&P | GLBA011-18 | Chilkat Guides, Ltd. | 1/1/2025 | 12/31/2025
Glacier Bay NP&P | GLBA012-18 | Colorado River and Trail Expeditions, Inc. | 1/1/2025 | 12/31/2025
Glacier Bay NP&P | GLBA013-18 | Momentum Alaska, Inc. | 1/1/2025 | 12/31/2025
Glacier Bay NP&P | GLBA014-18 | Mountain Travel | 1/1/2025 | 12/31/2025
Glacier Bay NP&P | GLBA017-18 | Wilderness River Outfitters and Trail Expeditions Inc. | 1/1/2025 | 12/31/2025
Glacier NP | GLAC004-15 | Belton Chalets, Inc. | 1/1/2025 | 12/31/2025
Glen Canyon NRA | GLCA007-03 | Antelope Point Holdings, LLC | 1/1/2025 | 12/31/2025
Grand Teton NP | GRTE001-07 | Grand Teton Lodge Company | 1/1/2025 | 12/31/2025
Grand Teton NP | GRTE004-12 | Triangle X Partnership | 11/1/2026 | 10/31/2027
Grand Teton NP | GRTE005-13 | The American Alpine Club | 1/1/2025 | 12/31/2025
Hot Springs NP | HOSP002-12 | Buckstaff Bath House Company | 1/1/2025 | 12/31/2025
Katmai NP&P | KATM001-16 | Katmailand, Inc. | 1/1/2026 | 12/31/2026
North Cascades NP | LACH003-12 | Guest Services, Inc. | 3/1/2025 | 2/28/2026
Ozark NSR | OZAR012-14 | O D Blackwell1, LLC | 1/1/2025 | 12/31/2025
Sequoia & Kings Canyon NPs | SEKI001-19 | Timothy B. Loverin | 1/1/2025 | 12/31/2025

Table 2—Concession Contracts Continued Until the Expiration Date Shown or Until the Effective Date of a New Contract, Whichever Comes First
Park unit | CONCID | Concessioner | Continuation effective date | Continuation expiration date
Glen Canyon NRA | GLCA002-88 | ARAMARK Sports and Entertainment Services, LLC | 1/1/2025 | 12/31/2025
Glen Canyon NRA | GLCA003-69 | ARAMARK Sports and Entertainment Services, LLC | 1/1/2025 | 12/31/2025
Lake Mead NRA | LAKE002-82 | LMNRA Guest Services, LLC | 1/1/2025 | 12/31/2025
Lake Mead NRA | LAKE005-97 | LMNRA Guest Services, LLC | 1/1/2025 | 12/31/2025
Lake Mead NRA | LAKE006-74 | Las Vegas Boat Harbor, Inc. | 1/1/2025 | 12/31/2025
Lake Mead NRA | LAKE009-88 | LMNRA Guest Services, LLC | 1/1/2025 | 12/31/2025

Table 3—Temporary Concession Contract
Park unit | CONCID | Services | Effective date
Ozark NSR | OZAR011-12 | Canoe and tube rentals with shuttle service, retail, and firewood sales | 1/1/2025
Great Smoky Mountains NP | GRSM002-22 | Lodging, food and beverage, and retail | 1/1/2025

Justin Unger,
Associate Director, Business Services.

[FR Doc. 2024-24872 Filed 10-24-24; 8:45 am]

BILLING CODE 4312-52-P